DEPARTMENT OF ENERGY

[OE Docket No. EA-289-A]

Application to Export Electric Energy; Intercom Energy, Inc.

AGENCY: Office of Electricity Delivery and Energy Reliability, DOE.

ACTION: Notice of application.

SUMMARY: Intercom Energy, Inc., (Intercom) has applied to renew its authority to transmit electric energy from the United States to Mexico pursuant to section 202(e) of the Federal Power Act.

DATES: Comments, protests, or requests to intervene must be submitted on or before May 15, 2006.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

Intercom is a California company with its principal place of business in Chula Vista, California. Intercom does not own or control electric generation or transmission assets in the United States or Mexico. In addition, Intercom has no franchised electric service area.

On May 19, 2004, the Department of Energy (DOE) issued Order No. EA-289 authorizing Intercom to transmit electric energy from the United States to Mexico as a power marketer. That two year authorization will expire on May 18, 2006.

On March 9, 2006, Intercom filed an application with DOE for renewal of the export authority contained in Order No. EA-289 for an additional five-year term. Intercom proposes to export electric energy to Mexico and to arrange for the delivery of those exports over the international transmission facilities presently owned by San Diego Gas & Electric Company, El Paso Electric Company, Central Power & Light Company, and Comision Federal de Electricidad, the national electric utility of Mexico.

Procedural Matters

Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with DOE on or before the dates listed above.

Comments on the Intercom application to export electric energy to Mexico should be clearly marked with Docket EA-289-A. Additional copies are to be filed directly with Ernesto Pallares, Chief Executive Officer, Intercom Energy, Inc., 303 H Street, Suit 401, Chula Vista, CA 91910, and Jon L. Brunenkant, James W. Moeller, Brunenkant & Haskell, LLP, 805 15th Street, NW., Suite 1101, Washington, DC 20005, and Daniel J. Mogin, The Mogin Law Firm, P.C., 110 Juniper Street, San Diego, CA 92101.

A final decision will be made on this application after the environmental impacts have been evaluated pursuant to the National Environmental Policy Act of 1969, and a determination is made by DOE that the proposed action will not adversely impact on the reliability of the U.S. electric power supply system.

Copies of this application will be made available, upon request, for public inspection and copying at the address provided above or by accessing the program's Home Page at http://www.fe.doe.gov/programs/electricityregulation/. Upon reaching the Home page, select “Pending Proceedings.”

Issued in Washington, DC, on April 7, 2006.
Anthony J. Como,
Director, Permitting and Siting, Office of Electricity Delivery and Energy Reliability.

[FR Doc. E6-5502 Filed 4-12-06; 8:45 am]

BILLING CODE 6450-01-P